NATIONAL SCIENCE FOUNDATION

Notice of Meeting; NSB Education and Human Resources Subcommittee

Agency Holding Meeting: National Science Foundation, National Science Board.

DATE AND TIME: August 5, 2003; 11 a.m.-12 a.m.—Open Session.

Place: The National Science Foundation, 4201 Wilson Boulevard—Room 130, Arlington, VA 22230, www.nsf.gov.

FOR FURTHER INFORMATION CONTACT: Robert Webber, (703) 292-7000.

Status: This meeting will be open to the public.

Matters to be Considered:

Tuesday, August 5, 2003

Open

NSB Subcommittee on Education and Human Resources, Graduate Working Group, Teleconference, Room 130.

1. Overview of Graduate Working Group objectives

a. Should the Graduate Working Group review the performance and evaluation reports for the GK-12, IGERT, and other programs?

2. Strategies for achieving Working Group objectives

3. Research on student decision-making regarding graduate education in STEM fields—

4. Impacts of increases in NSF stipend levels.

5. Coordination with other Federal Agencies.

6. Comments and requests related to the May 2003 Three-Groups Background Book

7. Schedule for Graduate Working Group activities

Robert Webber,
Policy Analyst, NSBO.

[FR Doc. 03-19803 Filed 8-4-03; 8:45 am]

BILLING CODE 7555-01-M